NATIONAL ARCHIVES AND RECORDS ADMINISTRATION

[NARA-2016-041]

Privacy Act of 1974, as Amended; System of Records Notice

AGENCY: National Archives and Records Administration (NARA).

ACTION: Privacy Act system of records notice (SORN) of a new system, NARA 45; Withdrawal.

SUMMARY: The National Archives and Records Administration (NARA) published notice in the Federal Register on June 8, 2016 (81 FR 36959) of a proposed new system of records subject to the Privacy Act of 1974, as amended (5 U.S.C. 552(a)) (“Privacy Act”). The new system was NARA 45, Insider Threat Program records. In addition, NARA updated Appendix B to add the SORN's system manager to the list of system managers and their addresses. The system of records notice (SORN) included a comment period ending on July 8, 2016, and an automatic effective date of July 18, 2016. However, NARA is now withdrawing this SORN due to changes in the scope of the system and it will no longer be effective. We will reissue the SORN once we have revised it.

DATES: This withdrawal notice is effective July 18, 2016.

ADDRESSES: National Archives and Records Administration; Regulations Comment Desk, Suite 4100; 8601 Adelphi Road; College Park, MD 20740.

FOR FURTHER INFORMATION CONTACT: Kimberly Keravuori, External Policy Program Manager, by email at regulation_comments@nara.gov, or by telephone at 301-837-3151.

Kimberly Keravuori,
External Policy Program Manager.

[FR Doc. 2016-17146 Filed 7-18-16; 8:45 am]

BILLING CODE 7515-01-P